DEPARTMENT OF HEALTH AND HUMAN SERVICES

Centers for Disease Control and Prevention

Building Healthcare Capacity in the United States and Internationally

Announcement Type: New.

Funding Opportunity Number: PA 04104.

Catalog of Federal Domestic Assistance Number: 93.283.

Dates:

Letter of Intent Deadline: June 29, 2004.

Application Deadline: July 14, 2004.

I. Funding Opportunity Description

Authority: Sections 301(a) and 317(k)(2) of the Public Health Service Act, (42 U.S.C. 241(a) and 247b(k)(2)), as amended.

Purpose: The purpose of the program is to assess existing healthcare capacity in the United States and internationally and to build capacity of healthcare settings/professionals to respond to emerging infections and other biological threats. This program addresses the “Healthy People 2010” focus area(s) of Immunization and Infectious Diseases.

Measurable outcomes of the program will be in alignment with the following performance goal for the National Center for Infectious Diseases (NCID): Protect Americans from Infectious Diseases.

Activities: Awardee activities for this program are as follows:

• Develop and implement a plan to rapidly assess healthcare preparedness in a network of healthcare settings.

• Address prevention and control of emerging infections and other biological threats.

• Gather and publish information that may assist local, State and Federal partners to build preparedness and response of healthcare delivery system to emerging threats.

• Develop, implement and evaluate train-the-trainer activities, including educational materials, to train and inform healthcare professionals in the United States and other countries about prevention of emerging infections and other biological threats in healthcare settings.

In a cooperative agreement, CDC staff is substantially involved in the program activities, above and beyond routine grant monitoring.

CDC Activities for this program are as follows:

• Collaborate with the recipient to assist in the development and implementation of a plan to rapidly assess healthcare preparedness in a network of healthcare settings.

• Provide content and format expertise in the development of training/educational materials.

• Provide expertise in identifying, selecting, and preparing professionals to deliver train-the-trainer activities.

• Provide information necessary to facilitate rapid assessments of preparedness of healthcare facilities.

• Collaborate with the recipient in all stages of the program, and provide programmatic, scientific and technical assistance.

• Collaborate with the recipient in the dissemination of findings and information stemming from the project.

• Collaborate with the recipient with improving program performance through consultation with recipient.

• Collaborate with the recipient to facilitate communication of data and results among stakeholders.

II. Award Information

Type of Award: Cooperative agreement. CDC involvement in this program is listed in the Activities Section above.

Fiscal Year Funds: 2004.

Approximate Total Funding: $250,000.

Approximate Number of Awards: One.

Approximate Average Award: $250,000. (This amount is for the first 12-month budget period, and includes both direct and indirect costs).

Floor of Award Range: None.

Ceiling of Award Range: $250,000.

Anticipated Award Date: July 2004.

Budget Period Length: 12 months.

Project Period Length: Two years.

Throughout the project period, CDC's commitment to continuation of awards will be conditioned on the availability of funds, evidence of satisfactory progress by the recipient (as documented in required reports), and the determination that continued funding is in the best interest of the Federal government.

III. Eligibility Information

III.1. Eligible applicants

Applications may be submitted by public and private nonprofit organizations and by governments and their agencies, such as:

• Public nonprofit organizations.

• Private nonprofit organizations.

• Universities.

• Colleges.

• Research institutions.

• Hospitals.

• Community-based organizations.

• Faith-based organizations.

• Federally recognized Indian tribal governments.

• Indian tribes.

• Indian tribal organizations.

• State and local governments or their bona fide agents (this includes the District of Columbia, the Commonwealth of Puerto Rico, the Virgin Islands, the Commonwealth of the Northern Marianna Islands, American Samoa, Guam, the Federated States of Micronesia, the Republic of the Marshall Islands, and the Republic of Palau).

• Political subdivisions of States (in consultation with States).

A bona fide agent is an agency/organization identified by the state as eligible to submit an application under the State eligibility in lieu of a State application. If you are applying as a bona fide agent of a State or local government, you must provide a letter from the State or local government as documentation of your status. Place this documentation behind the first page of your application form.

III.2. Cost Sharing or Matching

Matching funds are not required for this program.

III.3. Other

If you request a funding amount greater than the ceiling of the award range, your application will be considered non-responsive, and will not be entered into the review process. You will be notified that your application did not meet the submission requirements.

If your application is incomplete or non-responsive to the requirements listed in this section, it will not be entered into the review process. You will be notified that your application did not meet submission requirements.

This program is not designed or intended to support research, therefore no research will be supported under this cooperative agreement. Any applications proposing research will be considered non-responsive.

Note: Title 2 of the United States Code section 1611 states that an organization described in section 501(c)(4) of the Internal Revenue Code that engages in lobbying activities is not eligible to receive Federal funds constituting an award, grant, or loan.

IV. Application and Submission Information

IV.1. Address to Request Application Package

To apply for this funding opportunity, use application form PHS 5161. Application forms and instructions are available in an interactive format on the CDC Web site, at the following Internet address: http://www.cdc.gov/od/pgo/forminfo.htm. If you do not have access to the Internet, or if you have difficulty accessing the forms on-line, you may contact the CDC Procurement and Grants Office Technical Information Management Section (PGO-TIM) staff at: 770-488-2700. Application forms can be mailed to you.

IV.2. Content and Form of Submission

Letter of Intent (LOI): Your LOI must be written in the following format:

• Maximum number of pages: Two.

• Font size: 12-point unreduced.

• Double spaced.

• Paper size: 8.5 by 11 inches.

• Page margin size: One inch.

• Printed only on one side of page.

• Written in plain language, avoid jargon.

Your LOI must contain the following information:

• Descriptive title of the proposed project.

• Name, address, e-mail address, and telephone number of the Principal Investigator.

• Names of other key personnel.

• Participating institutions.

• Number and title of this Program Announcement (PA).

Application: You must submit a project narrative with your application forms. The narrative must be submitted in the following format:

• Maximum number of pages: 20. (If your narrative exceeds the page limit, only the first pages, which are within the page limit, will be reviewed.)

• Font size: 12 point unreduced.

• Paper size: 8.5 by 11 inches.

• Page margin size: One inch.

• Printed only on one side of page.

• Held together only by rubber bands or metal clips; not bound in any other way.

Your narrative should address activities to be conducted over the entire project period, and must include the following items in the order listed:

• Background and need.

• Capacity.

• Operational Plan.

• Evaluation Plan

• Measures of effectiveness.

• Budget.

The budget justification will be counted in the stated page limit.

Additional information may be included in the application appendices. The appendices will not be counted toward the narrative page limit. This additional information includes:

• Curriculum Vitaes.

• Resumes.

• Organizational Charts.

• Letters of Support.

You are required to have a Dun and Bradstreet Data Universal Numbering System (DUNS) number to apply for a grant or cooperative agreement from the Federal government. Your DUNS number must be entered on line 11 of the face page of the PHS 398 application form. The DUNS number is a nine-digit identification number, which uniquely identifies business entities. Obtaining a DUNS number is easy and there is no charge. To obtain a DUNS number, access http://www.dunandbradstreet.com or call 1-866-705-5711.

For more information, see the CDC Web site at: http://www.cdc.gov/od/pgo/funding/pubcommt.htm.

For more information, see the CDC Web site at: http://www.cdc.gov/od/pgo/funding/pubcommt.htm.

If your application form does not have a DUNS number field, please write your DUNS number at the top of the first page of your application, and/or include your DUNS number in your application cover letter.

Additional requirements that may require you to submit additional documentation with your application are listed in section “VI.2. Administrative and National Policy Requirements.”

IV.3. Submission Dates and Times

LOI Deadline Date: June 29, 2004.

CDC requests that you send a LOI if you intend to apply for this program. Although the LOI is not required, not binding, and does not enter into the review of your subsequent application, the LOI will be used to gauge the level of interest in this program, and to allow CDC to plan the application review.

Application Deadline Date: July 14, 2004.

Explanation of Deadlines: Applications must be received in the CDC Procurement and Grants Office by 4 p.m. eastern time on the deadline date. If you send your application by the United States Postal Service or commercial delivery service, you must ensure that the carrier will be able to guarantee delivery of the application by the closing date and time. If CDC receives your application after closing due to: (1) carrier error, when the carrier accepted the package with a guarantee for delivery by the closing date and time, or (2) significant weather delays or natural disasters, you will be given the opportunity to submit documentation of the carriers guarantee. If the documentation verifies a carrier problem, CDC will consider the application as having been received by the deadline.

This announcement is the definitive guide on application submission address and deadline. It supersedes information provided in the application instructions. If your application does not meet the deadline above, it will not be eligible for review, and will be discarded. You will be notified that your application did not meet the submission requirements.

CDC will not notify you upon receipt of your application. If you have a question about the receipt of your application, first contact your courier. If you still have a question, contact the PGO-TIM staff at: 770-488-2700. Before calling, please wait two to three days after the application deadline. This will allow time for applications to be processed and logged.

IV.4. Intergovernmental Review of Applications

Your application is subject to Intergovernmental Review of Federal Programs, as governed by Executive Order (EO) 12372. This order sets up a system for state and local governmental review of proposed Federal assistance applications. You should contact your state single point of contact (SPOC) as early as possible to alert the SPOC to prospective applications, and to receive instructions on your state's process. Click on the following link to get the current SPOC list: http://www.whitehouse.gov/omb/grants/spoc.html.

IV.5. Funding restrictions

Awards will not allow reimbursement of pre-award costs.

If you are requesting indirect costs in your budget, you must include a copy of your indirect cost rate agreement.

If your indirect cost rate is a provisional rate, the agreement should be less than 12 months of age.

Guidance for completing your budget can be found on the CDC web site, at the following Internet address: http://www.cdc.gov/od/pgo/funding/budgetguide.htm.

IV.6. Other Submission Requirements

LOI Submission Address: Submit your LOI by express mail, delivery service, fax, or e-mail to: Machel Forney, Division of Healthcare Quality Promotion, National Center for Infectious Diseases, Centers for Disease Control and Prevention, Building 57, Executive Park Drive South, Room 5015, Atlanta, GA 30329. Phone: (404) 498-1174, e-mail: MForney@cdc.gov.

Application Submission Address: Submit the original and two hard copies of your application by mail or express delivery service to: Technical Information Management-PA# 04104, CDC Procurement and Grants Office, 2920 Brandywine Road, Atlanta, GA 30341.

Applications may not be submitted electronically at this time.

V. Application Review Information

V.1. Criteria

You are required to provide measures of effectiveness that will demonstrate the accomplishment of the various identified objectives of the cooperative agreement. Measures of effectiveness must relate to the performance goals stated in the “Purpose” section of this announcement. Measures must be objective and quantitative, and must measure the intended outcome. These measures of effectiveness must be submitted with the application and will be an element of evaluation.

Your application will be evaluated against the following criteria:

A. Background/Need (40 points)

Does the applicant demonstrate a strong understanding of the need to build capacity to respond to threats of events in healthcare settings? Does the applicant illustrate the need for this project? Does the applicant present a clear goal for this project?

B. Capacity (20 points)

Does the applicant demonstrate that it has the expertise, facilities, and other resources necessary to accomplish the program requirements?

C. Operational Plan (20 points)

Does the applicant present clear, time-phased objectives that are consistent with the stated program goal and a detailed operational plan outlining specific activities that are likely to achieve the objective? Does the plan clearly outline the responsibilities of each of the key personnel?

D. Evaluation Plan (10 points)

Does the applicant present a plan for monitoring progress toward the stated goals and objectives?

E. Measures of Effectiveness (10 points)

Does the applicant provide Measures of Effectiveness that will demonstrate the accomplishment of the various identified objectives of the cooperative agreement? Are the measures objective/quantitative and do they adequately measure the intended outcome?

F. Budget (not scored)

Does the applicant present a detailed budget with a line-item justification and any other information to demonstrate that the request for assistance is consistent with the purpose and objectives of this grant program?

V.2. Review and Selection Process

Applications will be reviewed for completeness by the Procurement and Grants Office (PGO) staff, and for responsiveness by NCID. Incomplete applications and applications that are non-responsive to the eligibility criteria will not advance through the review process. Applicants will be notified that their application did not meet submission requirements.

An objective review panel will evaluate complete and responsive applications according to the criteria listed in the “V.1. Criteria” section above.

In addition, the following factors may affect the funding decision:

Though eligible participants are encouraged to submit an application, a funding preference will be given to potential applicants that:

• Represent a national organization or consortium with international members and/or partners.

• Have access to infection control professionals in a percentage of U.S. hospitals large enough to be national in scope, with representation of large and small hospitals in urban and rural areas.

• Have expertise in infection control and training.

• Have Information Technology (IT) resources for rapid assessment of preparedness and response of healthcare delivery system to emerging infections and other biological threats.

V.3. Anticipated Announcement and Award Dates

Anticipated award is July 2004.

VI. Award Administration Information

VI.1. Award Notices

Successful applicants will receive a Notice of Grant Award (NGA) from the CDC Procurement and Grants Office. The NGA shall be the only binding, authorizing document between the recipient and CDC. The NGA will be signed by an authorized Grants Management Officer, and mailed to the recipient fiscal officer identified in the application.

Unsuccessful applicants will receive notification of the results of the application review by mail.

VI.2. Administrative and National Policy Requirements

45 CFR part 74 and part 92.

For more information on the Code of Federal Regulations, see the National Archives and Records Administration at the following Internet address: http://www.access.gpo.gov/nara/cfr/cfr-table-search.html.

The following additional requirements apply to this project:

• AR-7 Executive Order 12372.

• AR-10 Smoke-Free Workplace Requirements.

• AR-11 Healthy People 2010.

• AR-12 Lobbying Restrictions.

• AR-15 Proof of Non-Profit Status.

Additional information on these requirements can be found on the CDC Web site at the following Internet address: http://www.cdc.gov/od/pgo/funding/ARs.htm.

VI.3. Reporting Requirements

You must provide CDC with an original, plus two hard copies of the following reports:

1. Interim progress report, (use form PHS 2590, OMB Number 0925-0001, rev. 5/2001 as posted on the CDC Web site) no less than 90 days before the end of the budget period. The progress report will serve as your non-competing continuation application, and must contain the following elements:

a. Current Budget Period Activities Objectives.

b. Current Budget Period Financial Progress.

c. New Budget Period Program Proposed Activity Objectives.

d. Budget.

e. Additional Requested Information.

f. Measures of Effectiveness.

2. Financial status report and annual progress report, no more than 90 days after the end of the budget period.

3. Final financial and performance reports, no more than 90 days after the end of the project period. These reports must be mailed to the Grants Management Specialist listed in the “Agency Contacts” section of this announcement.

VII. Agency Contacts

For general questions about this announcement, contact: Technical Information Management Section, CDC Procurement and Grants Office, 2920 Brandywine Road, Atlanta, GA 30341. Telephone: 770-488-2700.

For program technical assistance, contact: Denise Cardo, M.D., Project Officer, Division of Healthcare Quality Promotion, National Center for Infectious Diseases, Centers for Disease Control and Prevention, Building 57, Executive Park Drive South, Room 5015, Atlanta, GA 30329. Phone: (404) 498-1240, e-mail: dbc0@cdc.gov.

For financial, grants management, or budget assistance, contact: Jeff Napier, Grants Management Officer, CDC Procurement and Grants Office, 2920 Brandywine Road, Atlanta, GA 30341. Telephone: (770) 488-2861, e-mail: jkn7@cdc.gov.

Dated: June 7, 2004.
William P. Nichols,
Acting Director, Procurement and Grants Office, Centers for Disease Control and Prevention.

[FR Doc. 04-13266 Filed 6-10-04; 8:45 am]

BILLING CODE 4163-18-P